DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration is soliciting comments concerning the proposed extension of form WH-516, Worker Information—Terms and Conditions of Employment (English and Spanish).

DATES: Written comments must be submitted to the office listed in the addresses section below within December 24, 2001.

ADDRESSES: Ms. Patricia A. Forkel, U. S. Department of Labor, 200 Constitution Ave., N.W., Room S-3201, Washington, D.C. 20210, telephone (202) 693-0339 (this is not a toll-free number), fax (202) 693-1451, E-mail pforkel@fenix2.dol-esa.gov.

SUPPLEMENTARY INFORMATION:

I. Background

Various sections of the Migrant and Seasonal Agricultural Worker Protection Act (MSPA), 29 U.S.C. 1801 et seq., require that each farm labor contractor, agricultural employer and agricultural association disclose in writing the terms and conditions of employment to: (a) Migrant agricultural workers at the time of recruitment (section 201(a)); (b) seasonal agricultural workers, upon request, at the time of employment (section 301(a)(1)); and (c) seasonal agricultural workers employed through a day-haul operation at the place of recruitment (section 301(a)(2)). Sections 201(b) and 301(b) also require that each such employer provide to each worker, upon request, a written statement of the terms and conditions of employment. In addition, sections 201(g) and 301(f) require that such information be provided in English, or as necessary and reasonable, in a language common to the workers and that the U.S. Department of Labor (DOL) make forms available to provide such information. Optional Form WH-516, Worker Information, is printed and made available by DOL for these purposes. The terms and conditions required to be disclosed to workers are set forth in section 500.75(a) and (b) and 500.76(a), (b) and (c) of Regulations, 29 CFR Part 500, Migrant and Seasonal Agricultural Worker Protection, and Form WH-516, when completed and disclosed to workers, satisfies these requirements.

Public Law 104-49, enacted on November 15, 1995, provides in section 4 for the disclosure of certain information regarding State workers' compensation insurance to the employee, i.e., whether State workers' compensation is provided and if so, the name of the State workers' compensation insurance carrier, the name of the policyholder of such insurance, the name and the telephone number of each person who must be notified of an injury or death, and the time period within which this notice must be given. Optional Form WH-516 was revised in the previous OMB 83-1 submission to provide space to include this new statutorily-required information. This disclosure requirement can also be met by the employer by providing the worker with a photocopy of any notice regarding workers' compensation insurance required by law of the state in which such worker is employed.

Sections 500.75 and 500.76 of Regulations, 29 CFR part 500, Migrant and Seasonal Agricultural Worker Protections include in the terms and conditions of employment to be disclosed to the workers, the State workers' compensation notifications required by section 4 of Public Law 104-49.

II. Review Focus

The Department of Labor is particularly interested in comments which:

• Evaluate whether the proposed collection of information is necessary for the proper performance of the functions of the agency, including whether the information will have practical utility;

• evaluate the accuracy of the agency's estimate of the burden of the proposed collection of information, including the validity of the methodology and assumptions used;

• enhance the quality, utility and clarity of the information to be collected; and

• minimize the burden of the collection of information on those who are to respond, including through the use of appropriate automated, electronic, mechanical, or other technological collection techniques or other forms of information technology, e.g., permitting electronic submissions of responses.

III. Current Actions

The Department of Labor seeks the approval of the extension of this information collection in order to carry out its responsibility to ensure that farm labor contractors, agricultural employers and agricultural associations have disclosed to their migrant and seasonal agricultural workers the terms and conditions of employment as required by MSPA and its regulations.

Type of Review: Extension.

Agency: Employment Standards Administration.

Title: Worker Information—Terms and Conditions of Employment (English and Spanish).

OMB Number: 1215-0187.

Agency Number: WH-516.

Affected Public: Businesses or other for-profit; Individuals or households; Farms.

Frequency: On occasion.

Total Respondents: 137,000.

Total Annual Responses: 3.24 million.

Time per Response: 32 minutes.

Estimated Total Burden Hours: 73,067.

Total Burden Cost (capital/startup): $0.

Total Burden Cost (operating/maintenance): $29,160.

Comments submitted in response to this notice will be summarized and/or included in the request for Office of Management and Budget approval of the information collection request; they will also become a matter of public record.

Dated: October 9, 2001.
Margaret J. Sherrill,
Chief, Branch of Management Review and Internal Control, Division of Financial Management, Office of Management, Administration and Planning, Employment Standards Administration.

[FR Doc. 01-26633 Filed 10-22-01; 8:45 am]

BILLING CODE 4510-27-P